DEPARTMENT OF THE INTERIOR

National Park Service

[NPS-WASO-NRNHL-DTS#-36725; PPWOCRADI0, PCU00RP14.R50000]

National Register of Historic Places; Notification of Pending Nominations and Related Actions

AGENCY: National Park Service, Interior.

ACTION: Notice.

SUMMARY: The National Park Service is soliciting electronic comments on the significance of properties nominated before September 30, 2023, for listing or related actions in the National Register of Historic Places.

DATES: Comments should be submitted electronically by October 26, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 30, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

CALIFORNIA

Los Angeles County

Watts Happening Cultural Center, 1827 E 103rd St., Los Angeles, SG100009466

Riverside County

Evergreen Cemetery, 4414 Fourteenth St., Riverside, SG100009467

San Bernardino County

City Transfer and Storage Company Warehouse, 440 Oriental Ave., Redlands, SG100009474

Tuolumne County

Sierra Railway Locomotive No. 3, 10501 Reservoir Rd., Jamestown, SG100009468

DELAWARE

Sussex County

Prospect A.M.E. Church, 220 South Railroad Ave., Georgetown, SG100009498

DISTRICT OF COLUMBIA

District of Columbia

Eastern High School, (Public School Buildings of Washington, DC MPS), 1730 East Capitol Street NE, Washington, MP100009489

GEORGIA

Fulton County

Buildings at 523-549 Stewart Avenue, 565 Northside Dr. SW, 523 to 529 Metropolitan Parkway, 523 Stewart Avenue, 35 Stewart Avenue, Atlanta, SG100009517

Capitol View Apartments, 1191 Metropolitan Parkway, Atlanta, SG100009520

IOWA

Dallas County

Redfield GAR Hall, 1213 Thomas St., Redfield, SG100009484

Henry County

West Main Street Residential Historic District, 301-407 and 302-402 W Main St., Wayland, SG100009485

Louisa County

Fairview Church and Cemetery, 11501 Co Rd. H22, Wapello vicinity, SG100009486

Muscatine County

Nichols, Benjamin F. and Susan M. (Jenkins), House, 815 Ijem Avenue, Nichols, SG100009487

Fairport Biological Station Historic District, 3390 Highway 22, Fairport vicinity, SG100009488

KENTUCKY

Bath County

Sharpsburg Historic District, Main Street, Back Street, Public Street, Camp Street, West Tunnel Hill Road, Forest Avenue, Sharpsburg, SG100009521

Boone County

Dinsmore House, (Boone County, Kentucky MPS), W of Burlington on KY 18, Burlington vicinity, MP79000962

Boyle County

The Norton Center for the Arts, 600 West Walnut Street, Danville, SG100009524

Bracken County

F.A. Neider Company, (Augusta MRA), 207 Seminary, Augusta, MP100009535

Campbell County

Terrace Gardens, 1300 Dayton Avenue, Dayton, SG100009534

Jefferson County

Olds Motor Works, 728-730 S 4th Street, Louisville, SG100009532

East Smoketown District, 733, 801-827, 829 Logan Street, 929, 930 Mason Avenue, 925, 935 Lampton Street, South Fork of Beargrass Creek, Louisville, SG100009533

Kenton County

Magnus Metal Company Building, 4 Highway Avenue, Ludlow, SG100009531

Pulaski County

Pin Oak Site, Address Restricted, Somerset vicinity, SG100009538

Woodford County

Millville General Store, 5660 McCracken Pike, Frankfort, SG100009537

MARYLAND

Kent County

St. Dennis Roman Catholic Church Complex, 153 North Main Street (SR 213); Jct. of SR 290, Duck Puddle Rd., and Lambson Forest Rd., Galena, SG100009525

MASSACHUSETTS

Bristol County

Robinson Building, 37-41 Union St., Attleboro, SG100009506

Middlesex County

R. H. Long Company Factory, 59 Fountain St., Framingham, SG100009507

Nobscot Union Chapel, 871 Edgell Road, Framingham, SG100009508

MINNESOTA

Cass County

United States Forest Service, Remer District Ranger Station, (Federal Relief Construction in Minnesota, 1933-1943 MPS (AD)), 307 Main Street East, Remer, MP100009469

Hackensack Conservation Building, (Federal Relief Construction in Minnesota, 1933-1943 MPS (AD)), 101 Fleischer Ave., Hackensack, MP100009470

St. Louis County

Finnish Apostolic Lutheran Church of Embarrass, 5103 Highway 21, Embarass, SG100009477

NEBRASKA

Douglas County

South Omaha Main Street Historic District (Boundary Increase) (Additional Documentation), (Streetcar-Era Commercial Development in Omaha, Nebraska MPS), 5012-5020 S 24th St.; 4801-4927 S 25th St.; 2415 M St.; 2406-2425 N St.; 2424-2425 O St., Omaha, MP100009518

Seward County

Ella Eager House, 915 Walnut St., Beaver Crossing, SG100009512

NEW MEXICO

Bernalillo County

La Luz del Oeste, Loop One NW, Albuquerque, SG100009493

Medical Arts Historic District, (Central Albuquerque MPS), 711, 717, and 801 Encino Place NE and 1010 Las Lomas Boulevard NE, Albuquerque, MP100009505

OHIO

Clark County

Springfield Country Club, 2315 Signal Hill Rd., Springfield, SG100009480

Franklin County

Eastgate Apartments Historic District, 455-461 (odd) N Nelson Rd., 492-508 (even) Sunbury Rd., 1864-2112 (even) Maryland Ave., Columbus, SG100009503

OREGON

Lane County

Springfield High School, 525 Mill Street, Springfield, SG100009475

PENNSYLVANIA

Lebanon County

Schaefferstown Historic District, Roughly bounded by SR 501; Oak Street; Locust Street; Schaefferstown Cemetery; High Street; Fountain Park; the second blocks of S Market, S Lancaster, and S Carpenter streets and the rear parcel lines of properties on the south side of Heidelberg Avenue, Schaefferstown, SG100009511

SOUTH DAKOTA

Jerauld County

Zion Emmanuel Lutheran Church, 320 Oak Ave., Lane, SG100009483

TENNESSEE

Williamson County

Harlinsdale Farm (Boundary Increase), (Historic Family Farms in Middle Tennessee MPS), 315 Franklin Rd., Franklin, BC100009500

TEXAS

Austin County

Austin County Courthouse, 1 East Main St., Bellville, SG100009510

Dallas County

Bryan Tower, 2001 Bryan St., Dallas, SG100009495

Hunt County

Greenville Masonic Lodge No. 335 A.F. & A.M., 2615 Stonewall St., Greenville, SG100009494

Travis County

Baker School, 3908 Ave. B, Austin, SG100009490

Wichita County

First Wichita National Bank, 719 Scott Ave., Wichita Falls, SG100009496

UTAH

Uintah County

Dine-A-Ville Dinosaur, 905 E Main Street, Vernal, SG100009526

VIRGINIA

Augusta County

Long Meadow, 464 Long Meadow Road, Fishersville, SG100009530

Charlottesville INDEPENDENT CITY

Charlottesville Downtown Mall Historic District, Main Street from Water Street to East 7th Street and pedestrianized sections of 1st Street, East 2nd Street, East 3rd Street, and East 5th Street, Charlottesville, SG100009471

Northampton County

Cape Charles Rosenwald School, (Rosenwald Schools in Virginia MPS), 1500 Old Cape Charles Road, Cape Charles, MP100009536

Northumberland County

Julius Rosenwald High School, (Rosenwald Schools in Virginia MPS), 19602 Northumberland Highway, Reedville, MP100009479

Richmond INDEPENDENT CITY

High-Rise for the Elderly, 1202 N 151 Street, Richmond, SG100009501

Rockingham County

Elkton Historic District, Generally bounded by C Street and Gibbons Avenue to the north, North Stuart Avenue to the east, Wirt and Water Street to the south, and Shenandoah Avenue and 1st Street to the west, Elkton, SG100009529

WISCONSIN

Door County

Sunshine Shipwreck (Scow Schooner), (Great Lakes Shipwreck Sites of Wisconsin MPS), 1.1 miles southeast of the entrance of North Bay, Door County in Lake Michigan, Liberty Grove vicinity, MP100009481

La Crosse County

Christ Evangelical Lutheran Church of Burr Oak, 9113 State Highway 108, Farmington, SG100009482

Portage County

Sisters of St. Joseph Complex, 1300 Maria Drive, Stevens Point, SG100009476

A request for removal has been made for the following resource(s):

MINNESOTA

Wadena County

Peterson-Biddick Seed and Feed Company, 102 SE Aldrich Ave., Wadena, OT88003227

TENNESSEE

Rutherford County

Collier-Lane-Crichlow House, 500 N Spring St., Murfreesboro, OT78002629

An additional documentation has been received for the following resource(s):

KENTUCKY

Boone County

Dinsmore, James, House (Boundary Increase), (Boone County, Kentucky MPS), 5655 Burlington Pike, Burlington vicinity, AD05001307

NEBRASKA

Douglas County

South Omaha Main Street Historic District (Boundary Increase), Roughly S 24th St. between M and O Sts., Omaha, AD88002828

NORTH CAROLINA

Craven County

New Bern Historic District (Boundary Increase), Roughly 2 blks. of N Craven, blk. on Pasteur St., roughly along Bern, West, Cedar Sts. and Trent Court, New Bern, AD03000965

VIRGINIA

Richmond INDEPENDENT CITY

Hermitage Road Warehouse Historic District, Bounded by Hermitage & Overbrook Rds., Sherwood Ave., I-95, Richmond (Independent City), AD14000302

Nomination(s) submitted by Federal Preservation Officers:

The State Historic Preservation Officer reviewed the following nomination(s) and responded to the Federal Preservation Officer within 45 days of receipt of the nomination(s) and supports listing the properties in the National Register of Historic Places.

CALIFORNIA

Humboldt County

Falk Archaeological District, Address Restricted, Eureka, SG100009504

DISTRICT OF COLUMBIA

District of Columbia

Benjamin Ogle Tayloe House, 723 Madison Place NW (formerly 21 Madison Place NW), Washington, SG100009491

MINNESOTA

Ramsey County

Mni Owe Sni/Coldwater Spring, Address Restricted, St. Paul vicinity, SG100009497

WYOMING

Sublette County

Big Sandy Lodge, 1050 Mud Lake Road, Boulder, SG100009516

Authority: Section 60.13 of 36 CFR part 60

Dated: October 2, 2023.
Sherry A. Frear,
Chief, National Register of Historic Places/National Historic Landmarks Program.

[FR Doc. 2023-22476 Filed 10-10-23; 8:45 am]

BILLING CODE 4312-52-P